DEPARTMENT OF ENERGY

Federal Energy Regulatory Commission

[Docket No. RP04-280-000]

Northern Natural Gas Company; Notice of Proposed Changes in FERC Gas Tariff

May 5, 2004.

Take notice that on April 30, 2004, Northern Natural Gas Company (Northern) tendered for filing to become part of its FERC Gas Tariff, Fifth Revised Volume No. 1 the following tariff sheets to be effective June 1, 2004:

First Revised 66 Revised Sheet No. 50

First Revised 67 Revised Sheet No. 51

First Revised 31 Revised Sheet No. 52

First Revised 65 Revised Sheet No. 53

First Revised 15 Revised Sheet No. 56

First Revised 22 Revised Sheet No. 59

First Revised Sixth Revised Sheet No. 59A

First Revised 25 Revised Sheet No. 60

First Revised Sixth Revised Sheet No. 60A

Northern states that the filing is being made to adjust its rates effective June 1, 2004 to reflect the rate impact of the return and tax components associated with the System Levelized Account (SLA) balance as of March 31, 2004.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-1126 Filed 5-12-04; 8:45 am]

BILLING CODE 6717-01-P